DEPARTMENT OF TRANSPORTATION

Federal Aviation Administration

14 CFR Part 39

[Docket No. FAA-2024-0045; Project Identifier MCAI-2023-01088-A]

RIN 2120-AA64

Airworthiness Directives; Pilatus Aircraft Ltd. Airplanes

AGENCY: Federal Aviation Administration (FAA), DOT.

ACTION: Notice of proposed rulemaking (NPRM).

SUMMARY: The FAA proposes to supersede Airworthiness Directive (AD) 2023-12-17, which applies to Pilatus Aircraft Ltd. (Pilatus) Model PC-12, PC-12/45, PC-12/47, and PC-12/47E airplanes. AD 2023-12-17 requires revising the airworthiness limitation section (ALS) of the existing aircraft maintenance manual (AMM) or Instructions for Continued Airworthiness (ICA) for your airplane by introducing new and more restrictive instructions and maintenance tasks as specified in the component limitations section, which includes repetitive inspections for cracks in the lower main spar connection of the horizontal stabilizer. Since the FAA issued AD 2023-12-17, the FAA has determined that new or more restrictive airworthiness limitations are necessary. This proposed AD would require revising the ALS of your existing AMM or ICA and your existing approved maintenance or inspection program, as applicable, as specified in a European Union Aviation Safety Agency (EASA) AD, which is proposed for incorporation by reference. The FAA is proposing this AD to address the unsafe condition on these products.

DATES: The FAA must receive comments on this NPRM by March 18, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0045; or in person at Docket Operations between 9 a.m. and 5 p.m., Monday through Friday, except Federal holidays. The AD docket contains this NPRM, the mandatory continuing airworthiness information (MCAI) any comments received, and other information. The street address for Docket Operations is listed above.

Material Incorporated by Reference:

• For EASA material identified in this NPRM, contact EASA, Konrad-Adenauer-Ufer 3, 50668 Cologne, Germany; phone: +49 221 8999 000; email: ADs@easa.europa.eu; website: easa.europa.eu. You may find this material on the EASA website at ad.easa.europa.eu.

• You may view this service information at the FAA, Airworthiness Products Section, Operational Safety Branch, 901 Locust, Kansas City, MO 64106. For information on the availability of this material at the FAA, call (817) 222-5110.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Comments Invited

The FAA invites you to send any written relevant data, views, or arguments about this proposal. Send your comments to an address listed under ADDRESSES. Include “Docket No. FAA-2024-0045; Project Identifier MCAI-2023-01088-A” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aviation Safety Engineer, FAA, 1600 Stewart Avenue, Suite 410, Westbury, NY 11590. Any commentary that the FAA receives which is not specifically designated as CBI will be placed in the public docket for this rulemaking.

Background

The FAA issued AD 2023-12-17, Amendment 39-22475 (88 FR 42604, July 3, 2023) (AD 2023-12-17), for Pilatus Model PC-12, PC-12/45, PC-12/47, and PC-12/47E airplanes. AD 2023-12-17 was prompted by MCAI originated by EASA, which is the Technical Agent for the Member States of the European Union. EASA issued AD 2022-0103, dated June 9, 2022 (EASA AD 2022-0103) to correct an unsafe condition for Pilatus Model PC-12, PC-12/45, PC-12/47, and PC-12/47E airplanes identified as cracks in the lower main spar connection of the horizontal stabilizer and the failure of certain parts.

AD 2023-12-17 requires incorporating new revisions to the ALS of the existing AMM or ICA for your airplane to establish new or more restrictive airworthiness limitations that include repetitive inspections for cracks in the lower main spar connection of the horizontal stabilizer. The FAA issued AD 2023-12-17 to address cracks in the lower main spar connection of the horizontal stabilizer and failure of certain parts, which could result in loss of airplane control.

Actions Since AD 2023-12-17 Was Issued

Since the FAA issued AD 2023-12-17, EASA superseded EASA AD 2022-0103 and issued EASA AD 2023-0184, dated October 19, 2023 (EASA AD 2023-0184) (also referred to as the MCAI) for all Pilatus Model PC-12, PC-12/45, PC-12/47, and PC-12/47E airplanes. The MCAI states that new or more restrictive tasks and limitations have been developed. These new or more restrictive airworthiness limitations include repetitive eddy current inspections for cracks in the main landing gear yoke fitting. The FAA is issuing this AD to address failure of certain parts, which could result in asymmetric main landing gear failure that could lead to loss of airplane control during take-off, landing, and taxiing operations Additionally, the actions required to address the unsafe condition in AD 2023-12-17 are included in “the applicable ALS,” as defined in EASA AD 2023-0184.

You may examine the MCAI in the AD docket at regulations.gov under Docket No. FAA-2024-0045.

Related Service Information Under 1 CFR Part 51

EASA AD 2023-0184 requires certain actions and associated thresholds and intervals, including life limits and maintenance tasks. EASA AD 2023-0184 also requires doing corrective actions if any discrepancy (as defined in “the applicable ALS” as defined in EASA AD 2023-0184) is found during accomplishment of any task required by paragraph (1) of EASA AD 2023-0184 and revising the aircraft maintenance program (AMP) by incorporating the limitations, tasks, and associated thresholds and intervals described in “the applicable ALS” as defined in EASA AD 2023-0184. This material is reasonably available because the interested parties have access to it through their normal course of business or by the means identified in ADDRESSES.

FAA's Determination

These products have been approved by the aviation authority of another country and are approved for operation in the United States. Pursuant to the FAA's bilateral agreement with the State of Design Authority, it has notified the FAA of the unsafe condition described in the MCAI described above. The FAA is issuing this NPRM after determining that the unsafe condition described previously is likely to exist or develop in other products of the same type design.

Proposed AD Requirements in This NPRM

This proposed AD would retain none of the requirements of AD 2023-12-17. This proposed AD would require revising the ALS of the existing AMM or ICA for your airplane as specified in EASA AD 2023-0184, described previously, except as discussed under “Differences Between this Proposed AD and EASA AD 2023-0184.”

Differences Between This Proposed AD and EASA AD 2023-0184

Paragraph (1) of EASA AD 2023-0184 requires replacing each component before exceeding the applicable life limit and within the identified thresholds and intervals accomplishing all applicable maintenance tasks as specified in the applicable ALS for that airplane. Paragraph (2) of EASA AD 2023-0184 requires corrective actions in accordance with the applicable Pilatus maintenance documentation or contacting Pilatus for approved instructions and accomplishing those instructions accordingly. Paragraph (4) of EASA AD 2023-0184 provides credit for performing actions in accordance with previous revisions of the Pilatus AMM. Paragraph (5) of EASA AD 2023-0184 explains that after revision of the AMP, it is not necessary to record accomplishment of individual actions for demonstration of AD compliance. This proposed AD would not require compliance with paragraphs (1), (2), (4), and (5) of EASA AD 2023-0184.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0184 by reference in the FAA final rule. Service information required by the EASA AD for compliance will be available at regulations.gov by searching for and locating Docket No. FAA-2024-0045 after the FAA final rule is published.

Costs of Compliance

The FAA estimates that this AD, if adopted as proposed, would affect 1,030 airplanes of U.S. registry.

The FAA estimates the following costs to comply with this AD:

Estimated Costs
Action | Labor cost | Parts cost | Cost per product | Cost on U.S. operators
Revise the ALS | 1 work-hour × $85 per hour = $85 | $0 | $85 | $87,550

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2023-12-17, Amendment 39-22475 (88 FR 42604, July 3, 2023); and

b. Adding the following new AD:

Pilatus Aircraft Ltd.: Docket No. FAA-2024-0045; Project Identifier MCAI-2023-01088-A.

(a) Comments Due Date

The FAA must receive comments on this airworthiness directive (AD) by March 18, 2024.

(b) Affected ADs

This AD replaces AD 2023-12-17, Amendment 39-22475 (AD 2023-12-17).

(c) Applicability

This AD applies to Pilatus Aircraft Ltd. Model PC-12, PC-12/45, PC-12/47, and PC-12/47E airplanes, all serial numbers, certificated in any category.

(d) Subject

Joint Aircraft System Component (JASC) Code 3211, Main Landing Gear Attach Section.

(e) Unsafe Condition

This AD was prompted by a revision to the airworthiness limitations section (ALS) of the existing aircraft maintenance manual (AMM) introducing new and more restrictive instructions and maintenance tasks as specified in the component limitations section, which include repetitive eddy current inspections for cracks in the main landing gear yoke fitting, could result in an unsafe condition. The FAA is issuing this AD to address failure of certain parts, which could result in asymmetric main landing gear failure that could lead to loss of airplane control during take-off, landing, and taxiing operations.

(f) Compliance

Comply with this AD within the compliance times specified, unless already done.

(g) Required Actions

Except as specified in paragraphs (h) and (i) of this AD: Comply with all required actions and compliance times specified in, and in accordance with, European Union Aviation Safety Agency (EASA) AD 2023-0184, dated October 19, 2023 (EASA AD 2023-0184).

(h) Exceptions to EASA AD 2023-0184

(1) Where EASA AD 2023-0184 refers to its effective date, this AD requires using the effective date of this AD.

(2) This AD does not adopt the requirements specified in paragraphs (1), (2), (4), and (5) of EASA AD 2023-0184.

(3) Where paragraph (3) of EASA AD 2023-0184 specifies “Within 12 months after the effective date of this AD, revise the AMP,” this AD requires replacing those words with “Within 30 days after the effective date of this AD, revise the airworthiness limitations section of your existing airplane maintenance manual or instructions for continued airworthiness and your existing approved maintenance or inspection program, as applicable.”

(4) The initial compliance time for doing the tasks specified in paragraph (3) of EASA AD 2023-0184 is on or before the applicable “limitations” and “associated thresholds” as incorporated by the requirements of paragraph (3) of EASA AD 2023-0184 or within 30 days after the effective date of this AD, whichever occurs later.

(5) This AD does not adopt the “Remarks” section of EASA AD 2023-0184.

(i) Provisions for Alternative Actions and Intervals

No alternative actions and associated thresholds and intervals, including life limits, are allowed for compliance with paragraph (g) of this AD unless they are approved as specified in the provisions of the “Ref. Publications” section of EASA AD 2023-0184.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the International Validation Branch, send it to the attention of the person identified in paragraph (k) of this AD or email to: 9-AVS-AIR-730-AMOC@faa.gov. If mailing information, also submit information by email. Before using any approved AMOC, notify your appropriate principal inspector, or lacking a principal inspector, the manager of the responsible Flight Standards Office/certificate holding district office.

(k) Additional Information

For more information about this AD, contact Doug Rudolph, Aviation Safety Engineer, FAA, 1600 Stewart Avenue, Suite 410, Westbury, NY 11590; phone: (816) 329-4059; email: doug.rudolph@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) European Union Aviation Safety Agency (EASA) AD 2023-0184, dated October 19, 2023.

(ii) [Reserved]

(3) For EASA AD 2023-0184, contact EASA, Konrad-Adenauer-Ufer 3, 50668 Cologne, Germany; phone: +49 221 8999 000; email: ADs@easa.europa.eu; website: easa.europa.eu. You may find this EASA AD on the EASA website at ad.easa.europa.eu.

(4) You may view this service information at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on January 29, 2024.
Victor Wicklund,
Deputy Director, Compliance & Airworthiness Division, Aircraft Certification Service.

[FR Doc. 2024-02055 Filed 2-1-24; 8:45 am]

BILLING CODE 4910-13-P